NATIONAL ARCHIVES AND RECORDS ADMINISTRATION

[NARA-2019-003]

Agency Information Collection Activities: Submission for OMB Review; Comment Request

AGENCY: National Archives and Records Administration (NARA).

ACTION: Notice.

SUMMARY: NARA is giving public notice that it has submitted to OMB for approval the information collections described in this notice. We invite you to comment on the proposed information collections pursuant to the Paperwork Reduction Act of 1995.

DATES: OMB must receive written comments at the address below on or before December 3, 2018.

ADDRESSES: Send comments to Mr. Nicholas A. Fraser, desk officer for NARA, by mail to Office of Management and Budget; New Executive Office Building; Washington, DC 20503; fax to 202-395-5167; or by email to Nicholas_A._Fraser@omb.eop.gov.

FOR FURTHER INFORMATION CONTACT: Direct requests for additional information or copies of the proposed information collection and supporting statement to Tamee Fechhelm by phone at 301-837-1694 or by fax at 301-837-0319.

SUPPLEMENTARY INFORMATION: Pursuant to the Paperwork Reduction Act of 1995 (Pub. L. 104-13), NARA invites the general public and other Federal agencies to comment on proposed information collections. We published a notice of proposed collection for this information collection on July 27, 2018 (83 FR 35681); and we received no comments. We have therefore submitted the described information collection to OMB for approval.

In response to this notice, comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether the collection affects small businesses. In this notice, NARA solicits comments concerning the following information collections:

1. Title: Request to digitize records.

OMB number: 3095-0017.

Agency form number: None.

Type of review: Regular.

Affected public: Companies and organizations that wish to digitize archival holdings in the National Archives of the United States or a Presidential library for micropublication.

Estimated number of respondents: 10.

Estimated time per response: 5 hours.

Frequency of response: On occasion (when respondent wishes to request permission to digitize records).

Estimated total annual burden hours: 50.

Abstract: The information collection is prescribed by 36 CFR 1254.92. The collection is prepared by companies and organizations that wish to digitize archival holdings with privately-owned equipment. NARA uses the information to determine whether the request meets the criteria in 36 CFR 1254.94, to evaluate the records for digitization, and to schedule use of the limited space available for digitizing.

2. Title: Request to film, photograph, or videotape at a NARA facility for news purposes.

OMB number: 3095-0040.

Agency form number: None.

Type of review: Regular.

Affected public: Business or other for-profit, not-for-profit institutions.

Estimated number of respondents: 350.

Estimated time per response: 10 minutes.

Frequency of response: On occasion.

Estimated total annual burden hours: 58.

Abstract: The information collection is prescribed by 36 CFR 1280.48. The collection is prepared by organizations that wish to film, photograph, or videotape on NARA property for news purposes. NARA needs the information to determine if the request complies with NARA's regulations, to ensure protection of archival holdings, and to schedule the filming appointment.

3. Title: Request to use NARA facilities in the Washington, DC area for events.

OMB number: 3095-0043.

Agency form number: None.

Type of review: Regular.

Affected public: Not-for-profit institutions, individuals or households, business or other for-profit, Federal Government.

Estimated number of respondents: 530.

Estimated time per response: Between 5 and 30 minutes.

Frequency of response: On occasion.

Estimated total annual burden hours: 169.

Abstract: The information collection is prescribed by 36 CFR 1280.80 and 1280.82. The collection is prepared by organizations that wish to use NARA public areas in the Washington, DC area for an event. NARA uses the information to determine whether or not we can accommodate the request and to ensure that the proposed event complies with NARA regulations.

Swarnali Haldar,
Executive for Information Services/CIO.

[FR Doc. 2018-23871 Filed 10-31-18; 8:45 am]

BILLING CODE 7515-01-P